DEPARTMENT OF HOMELAND SECURITY

Transportation Security Administration

Reports, Forms, and Recordkeeping Requirements: Agency Information Collection Activity Under OMB Review; Transportation Worker Identification Credential (TWIC); Satisfaction and Effectiveness Measurement Data Collection Instruments

AGENCY: Transportation Security Administration (TSA), DHS.

ACTION: Notice.

SUMMARY: This notice announces that TSA has forwarded the Information Collection Request (ICR) abstracted below to the Office of Management and Budget (OMB) for review and clearance under the Paperwork Reduction Act. The ICR describes the nature of the information collection and its expected burden. TSA published a Federal Register notice, with a 60-day comment period soliciting comments, of the following collection of information on June 24, 2003, 68 FR 37510.

DATES: Send your comments by November 10, 2003. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Conrad Huygen, Office of Information Management Programs, TSA HQ, West Tower, Floor 4, TSA-17, 601 South 12th Street, Arlington, VA 22202-4220; telephone (571) 227-1954; facsimile (571) 227-2912.

SUPPLEMENTARY INFORMATION:

Transportation Security Administration (TSA)

Title: Transportation Worker Identification Credential; Satisfaction and Effectiveness Measurement Data Collection Instruments.

Type of Request: New collection.

OMB Control Number: Not yet assigned.

Forms(s): Transportation Worker Survey; Port Security Interview Guide.

Affected Public: Transportation Workers; Lead Stakeholders.

Abstract: TSA intends to evaluate and test certain technologies and business processes in the Technology Evaluation and Prototype Phases of the pilot project to fully develop the Transportation Worker Identification Credential (TWIC). TSA will gather demographic information required to issue credentials to a select group of transportation workers and then administer two instruments to collect data on the effectiveness of the TWIC credential. The first instrument will be a survey of a small representative percent of the TWIC users and the second instrument will be interviews conducted with the lead stakeholder at each site participating in the Technology Evaluation and Prototype Phases. Surveys and interviews will be voluntary and anonymous.

Number of Respondents: 30,780.

Estimated Annual Burden Hours: 5,195.

TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Issued in Arlington, Virginia, on October 3, 2003.
Susan T. Tracey,
Deputy Chief Administrative Officer.

[FR Doc. 03-25562 Filed 10-8-03; 8:45 am]

BILLING CODE 4910-62-P